DEPARTMENT OF ENERGY

Federal Energy Regulatory Commission

18 CFR Parts 380, 385

[Docket No. RM25-11-000; ORDER NO. 908]

Removal of References to the Council on Environmental Quality's Rescinded Regulations

AGENCY: Federal Energy Regulatory Commission.

ACTION: Final rule.

SUMMARY: The Federal Energy Regulatory Commission is issuing this final rule to revise its regulations implementing the National Environmental Policy Act and its Rules of Practice and Procedure to remove reference to the Council on Environmental Quality's rescinded regulations.

DATES: This rule will become effective August 18, 2025.

FOR FURTHER INFORMATION CONTACT:

Thomas Blonkowski, Office of the General Counsel, Federal Energy Regulatory Commission, 888 First Street NE, Washington, DC 20426, (202) 502-8950. thomas.blonkowski@ferc.gov

Brandon Cherry, Office of Energy Projects, Federal Energy Regulatory Commission, 888 First Street NE, Washington, DC 20426, (202) 502-8328, brandon.cherry@ferc.gov

SUPPLEMENTARY INFORMATION:

I. Background

1. The Federal Energy Regulatory Commission (Commission) is issuing this final rule to remove references to the Council on Environmental Quality's (CEQ) rescinded regulations from the Commission's part 380 Regulations Implementing the National Environmental Policy Act ¹ (NEPA) and part 385 Rules of Practice and Procedure.²

¹ 18 CFR pt. 380.

² 18 CFR pt. 385.

II. Discussion

2. The Commission's regulations, since 1970, have included provisions to implement NEPA.³ On December 17, 1987, the Commission revised its regulations to include its part 380 regulations implementing NEPA.⁴ In the 1987 rulemaking, the Commission explained that the part 380 regulations require applicants to provide specific information on the environmental impacts of a proposed project under the Natural Gas Act or Federal Power Act and develop specific procedures for the Commission to evaluate project applications.⁵ The Commission also clarified that it was voluntarily complying with the CEQ regulations.⁶

³ 35 FR 18958 (Dec. 15, 1970).

⁴ 52 FR 47897 (Dec. 17, 1987).

⁵ Id. at 47898.

⁶ Id.

3. CEQ removed its NEPA implementing regulations from the Code of Federal Regulations, 40 CFR 1500-1508, effective April 11, 2025.⁷ As CEQ explained in its rulemaking, Executive Order 14154, Unleashing American Energy,⁸ repealed Executive Order 11991, Relating to Protection and Enhancement of Environmental Quality, which directed CEQ to promulgate regulations and required Federal agencies to comply with the CEQ regulations.⁹

⁷ Removal of National Environmental Policy Act Implementing Regulations, 90 FR 10610 (Feb. 25, 2025) (rescission effective on April 11, 2025).

⁸ 90 FR 8353 (Jan. 20, 2025).

⁹ 42 FR 26967 (May 25, 1977).

4. The Commission's regulations include reference to CEQ's rescinded regulations at 18 CFR 380.1, 380.3, 380.4, 380.7, 380.8, 380.9, and 385.2201. As CEQ's regulations have been rescinded, this rulemaking removes those references and, where applicable, the citation to CEQ's regulation is replaced with a citation to NEPA.

III. Regulatory Planning and Review

5. Executive Order 12866, Regulatory Planning and Review, as amended by Executive Orders 14215, Ensuring Accountability for All Agencies and 13563, Improving Regulation and Regulatory Review, directs agencies to assess the costs and benefits of available regulatory alternatives, and if regulation is necessary, to select regulatory approaches that maximize net benefits (including potential economic, environmental, public health and safety effects, distributive impacts, and equity). Executive Order 13563 emphasizes the importance of quantifying costs and benefits, reducing costs, harmonizing rules, and promoting flexibility. The Office of Information and Regulatory Affairs has designated this final rule “a significant regulatory action” as defined under section 3(f) of Executive Order 12866, though not economically significant under 3(f)(1). Accordingly, the Commission submitted this final rule to Office of Management and Budget (OMB) for Executive Order 12866 review. This final rule is considered a deregulatory action under Executive Order 14192, Unleashing Prosperity Through Deregulation.

IV. Information Collection Statement

6. OMB regulations implementing the Paperwork Reduction Act require agencies to seek approval for information collection requirements imposed by agency rules.¹⁰ This final rule, however, results in no new, additional, or different reporting burdens. This final rule does not require applicants under the Federal Power Act or Natural Gas Act, or indeed any participant in a Commission proceeding, to file new, additional, or different information, and it does not change the frequency with which they must file information.

¹⁰ 5 CFR 1320.12.

V. Environmental Analysis

7. Under NEPA, the Commission is required to prepare an Environmental Assessment or an Environmental Impact Statement for any action that may have a significant adverse effect on the human environment.¹¹ Section 380.4 of the Commission's regulations sets out categorical exclusions for projects or actions that do not individually or cumulatively have a significant effect on the human environment, which negates the need to prepare an Environmental Assessment or Environmental Impact Statement.¹² Section 380.4(a)(2)(ii) provides a categorical exclusion for the promulgation of rules that are clarifying, corrective, or procedural or that do not substantially change the effect of the regulations being amended.¹³ This rule is clarifying and corrective as it amends the Commission's regulations to remove references to CEQ's rescinded regulations. Accordingly, this rulemaking is categorically excluded from the requirement to prepare an Environmental Assessment or Environmental Impact Statement under that provision.

¹¹ Reguls. Implementing the Nat'l Env't Policy Act, Order No. 486, 52 FR 47897 (Dec. 17, 1987), FERC Stats. & Regs. Preambles 1986-1990 ¶ 30,783 (1987) (cross-referenced at 41 FERC ¶ 61,284).

¹² 18 CFR 380.4.

¹³ Id. 380.4(a)(2)(ii).

VI. Regulatory Flexibility Act

8. The Regulatory Flexibility Act of 1980 (RFA) ¹⁴ generally requires a description and analysis of final rules that will have a significant economic impact on a substantial number of small entities. This final rule removes now-nugatory references to rescinded regulations, and it will not have such an impact. The Commission therefore certifies that this final rule will not have a significant economic impact on a substantial number of small entities. Accordingly, an analysis under the RFA is not required.

¹⁴ 5 U.S.C. 601-612.

VII. Document Availability

9. In addition to publishing the full text of this document in the Federal Register, the Commission provides all interested persons an opportunity to view and/or print the contents of this document via the internet through the Commission's Home Page (http://www.ferc.gov).

10. From the Commission's Home Page on the internet, this information is available on eLibrary. The full text of this document is available on eLibrary in PDF and Microsoft Word format for viewing, printing, and/or downloading. To access this document in eLibrary, type the docket number excluding the last three digits of this document in the docket number field.

11. User assistance is available for eLibrary and the Commission's website during normal business hours from FERC Online Support at (202) 502-6652 (toll free at 1-866-208-3676) or email at ferconlinesupport@ferc.gov, or the Public Reference Room at (202) 502-8371, TTY (202) 502-8659. Email the Public Reference Room at public.referenceroom@ferc.gov.

VIII. Effective Date and Congressional Notification

12. The provisions of 5 U.S.C. 801 regarding Congressional review of final rules do not apply to this final rule because the rule concerns the removal of references to CEQ's rescinded regulations and therefore is a rule of agency procedure or practice that will not substantially affect the rights or obligations of non-agency parties.¹⁵

¹⁵ 5 U.S.C. 804(3)(C).

13. Under 5 U.S.C. 553(b)(B), notice-and-comment rulemaking procedures are not required when the agency for good cause finds that notice and public procedure are impracticable, unnecessary, or contrary to the public interest. Notice-and-comment procedures are unnecessary for this rule because it merely clarifies and corrects the Commission's NEPA procedures by removing references to CEQ's rescinded regulations.¹⁶ Public comment would serve no purpose here because the Commission's action removes references to regulatory provisions that, for reasons outside of the Commission's control, have been rendered legally inoperative. In short, CEQ's recission of its own regulations provides good cause for the Commission to remove without prior solicitation of comment references to CEQ's regulations from the Commission's regulations, so observance of that procedure here is unnecessary.

¹⁶ Removal of National Environmental Policy Act Implementing Regulations, 90 FR 10610 (Feb. 25, 2025) (rescinding 40 CFR 1500-1508, effective April 11, 2025).

14. This rule is effective on August 18, 2025.

List of Subjects

18 CFR Part 380

Environmental impact statements, Reporting and recordkeeping requirements.

18 CFR Part 385

Administrative practice and procedure, Electric power, Penalties, Pipelines, Reporting and recordkeeping requirements.

Issued: June 30, 2025.
Carlos D. Clay,
Deputy Secretary.

In consideration of the foregoing, the Commission amends parts 380 and 385, Chapter I, Title 18, Code of Federal Regulations, as follows:

PART 380—REGULATIONS IMPLEMENTING THE NATIONAL ENVIRONMENTAL POLICY ACT

1. The authority citation for part 380 continues to read as follows:

Authority: 42 U.S.C. 4321-4370h, 7101-7352; E.O. 12009, 3 CFR 1978 Comp., p. 142.

2. Revise § 380.1 to read as follows:

§ 380.1 Purpose.

The regulations in this part implement the Federal Energy Regulatory Commission's procedures under the National Environmental Policy Act of 1969 (NEPA).

3. Revise § 380.3(a)(2) to read as follows:

§ 380.3 Environmental information to be supplied by an applicant.

(a) * * *

(2) For any proposal not identified in paragraph (a)(1) of this section, any environmental information that the Commission may determine is necessary for compliance with these regulations, NEPA, and other Federal laws such as the Endangered Species Act, the National Historic Preservation Act or the Coastal Zone Management Act.

* * * * *

4. Revise § 380.4(b)(1) to read as follows:

§ 380.4 Projects or actions categorically excluded.

* * * * *

(b) * * *

(1) The Commission and its staff will independently evaluate environmental information supplied in an application and in comments by the public. Where circumstances indicate that an action may be a major Federal action significantly affecting the quality of the human environment, the Commission:

(i) May require an environmental report or other additional environmental information, and

(ii) Will prepare an environmental assessment or an environmental impact statement.

* * * * *

5. Revise § 380.7 to read as follows:

§ 380.7 Format of an environmental impact statement.

In addition to the requirements for an environmental impact statement prescribed in section 102(2)(C) of NEPA, 42 U.S.C. 4332(2)(C), an environmental impact statement prepared by the Commission will include a section on the literature cited in the environmental impact statement and a staff conclusion section. The staff conclusion section will include summaries of:

(a) The significant environmental impacts of the proposed action;

(b) Any alternative to the proposed action that would have a less severe environmental impact or impacts and the action preferred by the staff;

(c) Any mitigation measures proposed by the applicant, as well as additional mitigation measures that might be more effective;

(d) Any significant environmental impacts of the proposed action that cannot be mitigated; and

(e) References to any pending, completed, or recommended studies that might provide baseline data or additional data on the proposed action.

6. Revise § 380.8 to read as follows:

§ 380.8 Preparation of environmental documents.

The preparation of environmental documents, as defined in section 111(5) of NEPA, 42 U.S.C. 4336e(5), on hydroelectric projects, natural gas facilities, and electric transmission facilities in national interest electric transmission corridors is the responsibility of the Commission's Office of Energy Projects, 888 First Street NE, Washington, DC 20426, (202) 502-8700. Persons interested in status reports or information on environmental impact statements or other elements of the NEPA process, including the studies or other information the Commission may require on these projects, can contact this office.

7. Revise § 380.9(a) to read as follows:

§ 380.9 Public availability of NEPA documents and public notice of NEPA related hearings and public meetings.

(a)(1) The Commission will comply with the requirements of section 107(c) of NEPA, 42 U.S.C. 4336a(c).

(2) If an action has effects of primarily local concern, the Commission may give additional notice in a Commission order.

* * * * *

PART 385—RULES OF PRACTICE AND PROCEDURE

8. The authority citation for part 385 continues to read as follows:

Authority: 5 U.S.C. 551-557; 15 U.S.C. 717-717w, 3301-3432; 16 U.S.C. 791a-825v, 2601-2645; 28 U.S.C. 2461; 31 U.S.C. 3701, 9701; 42 U.S.C. 7101-7352, 16441, 16451-16463; 49 U.S.C. 60502; 49 App. U.S.C. 1-85 (1988); 28 U.S.C. 2461 note (1990); 28 U.S.C. 2461 note (2015).

9. Revise section § 385.2201(g)(1) to read as follows:

§ 385.2201 Rules governing off-the-record communications (Rule 2201).

* * * * *

(g) * * *

(1) Any document, or a summary of the substance of any oral communication, obtained through an exempt off-the-record communication under paragraphs (e)(1)(ii), (iv), (v), (vi) or (vii) of this section, promptly will be submitted to the Secretary and placed in the decisional record of the relevant Commission proceeding, unless the communication was with a cooperating agency as described by 42 U.S.C. 4336e(2), made under paragraph (e)(1)(v) of this section.

* * * * *

[FR Doc. 2025-12464 Filed 7-1-25; 2:30 pm]

BILLING CODE 6717-01-P